CONSUMER PRODUCT SAFETY COMMISSION

[Docket No. CPSC-2009-0044]

Proposed Extension of Approval of Information Collection; Comment Request—Safety Standard for Cigarette Lighters

AGENCY: U.S. Consumer Product Safety Commission.

ACTION: Notice.

SUMMARY: As required by the Paperwork Reduction Act of 1995, the Consumer Product Safety Commission (Commission or CPSC) requests comments on a proposed extension of approval of a collection of information from manufacturers and importers of disposable and novelty cigarette lighters. This collection of information consists of testing and recordkeeping requirements in regulations implementing the Safety Standard for Cigarette Lighters, approved previously under OMB Control No. 3041-0116. The CPSC will consider all comments received in response to this notice, before requesting an extension of approval of this collection of information from the Office of Management and Budget (OMB).

DATES: Submit written or electronic comments on the collection of information by September 23, 2022.

ADDRESSES: You may submit comments, identified by Docket No. CPSC-2009-0044, by any of the following methods:

Electronic Submissions: Submit electronic comments to the Federal eRulemaking Portal at: https://www.regulations.gov. Follow the instructions for submitting comments. Do not submit through this website: confidential business information, trade secret information, or other sensitive or protected information that you do not want to be available to the public. CPSC typically does not accept comments submitted by electronic mail (email), except as described below.

Mail/Hand Delivery/Courier Written Submissions: CPSC encourages you to submit electronic comments by using the Federal eRulemaking Portal. You may, however, submit comments by mail, hand delivery, or courier to: Office of the Secretary, Consumer Product Safety Commission, 4330 East West Highway, Bethesda, MD 20814; telephone (301) 504-7479.

Instructions: All submissions must include the agency name and docket number. CPSC may post all comments without change, including any personal identifiers, contact information, or other personal information provided, to: https://www.regulations.gov. If you wish to submit confidential business information, trade secret information, or other sensitive or protected information that you do not want to be available to the public, you must submit such comments by mail, hand delivery, or courier, or by email to: cpsc-os@cpsc.gov.

Docket: For access to the docket to read background documents or comments received, go to: https://www.regulations.gov, and insert the docket number, CPSC-2009-0044, into the “Search” box, and follow the prompts.

FOR FURTHER INFORMATION CONTACT: Cynthia Gillham, Consumer Product Safety Commission, 4330 East West Highway, Bethesda, MD 20814; (301) 504-7991, or by email to: cgillham@cpsc.gov.

SUPPLEMENTARY INFORMATION: The CPSC seeks to renew the following currently approved collection of information:

Title: Safety Standard for Cigarette Lighters.

OMB Number: 3041-0116.

Type of Review: Renewal of collection.

Frequency of Response: On occasion.

Affected Public: Manufacturers and importers of cigarette lighters.

Estimated Number of Respondents: In 2021, 30 firms submitted information to the CPSC on 143 lighter models. There were 4 new lighter models and 139 lighters that were comparable to models previously tested (“comparison lighters”).

Estimated Time per Response: The burden associated with the standard includes the time and cost spent testing and maintaining the test records, either by the firm or by outside contractors. If the firm elects to use an outside contractor, the cost of testing per model is estimated to be about $25,000 on average. If all 4 new lighter models are tested annually by outside contractors, the cost would be about $100,000. If tests are conducted in-house, testing new lighter models is expected to take about 90 hours per model. The total testing time for the four models, would be 360 hours (90 hours × 4 models). Recordkeeping consists of two separate components: recordkeeping for new lighter models, and recordkeeping for comparison lighters.

New Lighter Models—The time burden for recordkeeping for new lighter models is estimated at 20 hours per model. The total time for recordkeeping is estimated to be 80 hours (20 hours × 4 models).

Comparison Lighters—Firms may also submit comparison lighters to demonstrate compliance with the standard. In 2021, 139 comparison lighters were reported to the CPSC. While firms bear no testing costs for comparison lighters, the burden hours for recordkeeping has been estimated at 3 hours per model. Thus, an estimated 417 hours (139 models × 3 hours) is estimated for recordkeeping for comparison lighters.

Reporting Requirements—Approximately 1 hour will be required for firms to submit forms to CPSC per model, for a total annual reporting burden on 143 hours (143 models × 1 hour).

Total Estimated Annual Burden: The annual total number of hours could be as high as 1000 hours (360 testing + 497 recordkeeping hours + 143 reporting hours) per year. If some firms elect to outsource testing of new models, there may be fewer burden hours. The CPSC estimates the total cost for firms to test, and prepare, maintain, and submit records to the CPSC in compliance with the lighter regulation would be in the range of of $47,859 to $122,515, depending upon whether the testing is done in-house or through outsourcing.

General Description of Collection: In 1993, the CPSC issued the Safety Standard for Cigarette Lighters (16 CFR part 1210) under the Consumer Product Safety Act (CPSA) (15 U.S.C. 2051 et seq.) to eliminate or reduce risks of death and burn injury from fires accidentally started by children playing with cigarette lighters. The standard requires certain test protocols, as well as recordkeeping and reporting requirements. 16 CFR part 1210, subpart B. In addition, section 14(a) of the CPSA (15 U.S.C. 2063(a)) requires manufacturers, importers, and private labelers of a consumer product subject to a consumer product safety standard to issue a certificate stating that the product complies with all applicable consumer product safety standards. Section 14(a) of the CPSA also requires that the certificate of compliance must be based on a test of each product or upon a reasonable testing program.

Request for Comments

The CPSC solicits written comments from all interested persons about the proposed collection of information. The CPSC specifically solicits information relevant to the following topics:

—Whether the collection of information described above is necessary for the proper performance of the CPSC's functions, including whether the information would have practical utility;

—Whether the estimated burden of the proposed collection of information is accurate;

—Whether the quality, utility, and clarity of the information to be collected could be enhanced; and

—Whether the burden imposed by the collection of information could be minimized by use of automated, electronic, or other technological collection techniques, or other forms of information technology.

Alberta E. Mills,
Secretary, Consumer Product Safety Commission.

[FR Doc. 2022-15885 Filed 7-22-22; 8:45 am]

BILLING CODE 6355-01-P